DEPARTMENT OF STATE

[Public Notice 4408]

Shipping Coordinating Committee; Notice of Meeting

The U.S. Shipping Coordinating Committee (SHC), Maritime Law Subcommittee, will conduct an open meeting at 10 a.m. on Monday, October 6, 2003 in Room 2415 at U.S. Coast Guard Headquarters, 2100 Second Street, SW., Washington, DC. The purpose of this meeting is to prepare for the Eighty-Seventh Session of the International Maritime Organization's (IMO) Legal Committee (LEG 87) scheduled from October 13, to October 17, 2003.

The provisional LEG 87 agenda calls for the Legal Committee to examine the draft Wreck Removal Convention. Also the Committee will review the Convention for the Suppression of Unlawful Acts against the Safety of Maritime Navigation, 1988, and its Protocol of 1988 relating to Fixed Platforms Located on the Continental Shelf (SUA Convention and Protocol). To be addressed as well is the Provision of Financial Security which includes a progress report on the work of the Joint IMP/ILO Ad Hoc Expert Working Group on Liability and Compensation regarding claims for Death, Personal Injury and Abandonment of Seafarers; and includes follow-up resolutions adopted by the International Conference on the Revision of the Athens Convention relating to the Carriage of Passengers and their Luggage by Sea, 1974. The Legal Committee will examine places of refuge, treatment of persons rescued at sea, the code of practice for the investigation of crimes of piracy and armed robbery at sea; as well as measures to protect crews and passengers against crimes committed on vessels. Also on the agenda is monitoring the implementation of the HNS Convention; review of the status of Conventions and other treaty instruments adopted as a result of the work of the Legal Committee, matters arising from the ninetieth session of the Council, work programme and long-term work plans, and technical co-operation (subprogramme for maritime legislation). Additionally, the provisional LEG 87 agenda allots time to address any other issues that may arise on the Legal Committee's work program.

Members of the public are invited to attend the SHC subcommittee meeting up to the seating capacity of the room. To facilitate the building security process, those who plan to attend should call or send an e-mail two days before the meeting. Upon request, participating by phone may be an option. For further information please contact Captain Joseph F. Ahern or Lieutenant Martha Rodriguez, at U.S. Coast Guard, Office of Maritime and International Law (G-LMI), 2100 Second Street, SW., Washington, DC 20593-0001; e-mail cleonardcho@comdt.uscg.mil, telephone (202) 267-1527; fax (202) 267-4496.

Dated: July 31, 2003.
Frederick J. Kenney,
Executive Secretary, Shipping Coordinating Committee, Department of State.

[FR Doc. 03-20749 Filed 8-13-03; 8:45 am]

BILLING CODE 4710-07-P